DEPARTMENT OF HEALTH AND HUMAN SERVICES

Health Resources and Services Administration

Agency Information Collection Activities; Proposed Collection; Comment Request

ACTION: Notice.

SUMMARY: In compliance with the requirement for opportunity for public comment on proposed data collection projects (Section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, email paperwork@hrsa.gov or call the HRSA Reports Clearance Officer at (301) 443-1984.

HRSA especially requests comments on: (1) The necessity and utility of the proposed information collection for the proper performance of the agency's functions, (2) the accuracy of the estimated burden, (3) ways to enhance the quality, utility, and clarity of the information to be collected, and (4) the use of automated collection techniques or other forms of information technology to minimize the information collection burden.

Information Collection Request Title: Health Care and Other Facilities (OMB No. 0915-0309)—Extension

Abstract: The Health Resources and Services Administration's Health Care and Other Facilities (HCOF) program provides congressionally-directed funds to health-related facilities for construction related activities and/or capital equipment purchases. Awarded facilities are required to provide a periodic (quarterly for construction related projects, annually for equipment only projects) update of the status of the funded project until it is completed. The monitoring period averages about three years, although some projects take up to five years to complete. The information collected from these updates is vital to program management staff to determine whether projects are progressing according to the established timeframes, meeting deadlines established in the Notice of Award, and drawing down funds appropriately. The data collected from the updates is also shared with the Division of Grants Management Operations for their assistance in the overall evaluation of each project's progress.

An electronic form is currently being used for progress reporting for the HCOF program. This form provides awardees access to directly input the required status update information in a timely, consistent, and uniform manner. The electronic form minimizes burden to respondents and informs respondents when there are missing data elements prior to submission. We acknowledge a change in the burden estimate due to close out of old projects.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this Information Collection Request are summarized in the table below.

The annual estimate of burden is as follows:

Form name | Number of respondents | Number of responses per respondent | Total responses | Average burden per response (in hours) | Total burden hours
Construction Related | 200 | 4 | 800 | .5 | 400
Equipment Only | 317 | 1 | 317 | .5 | 158.5
Total | 517 |  | 1,117 |  | 558.5

ADDRESSES: Submit your comments to paperwork@hrsa.gov or mail the HRSA Reports Clearance Officer, Room 10-29, Parklawn Building, 5600 Fishers Lane, Rockville, MD 20857.

Deadline: Comments on this Information Collection Request must be received within 60 days of this notice.

Dated: April 10, 2013.
Bahar Niakan,
Director, Division of Policy and Information Coordination.

[FR Doc. 2013-09026 Filed 4-16-13; 8:45 am]

BILLING CODE 4165-15-P